DEPARTMENT OF ENERGY

Federal Energy Regulatory Commission

[Docket No. RP02-212-000]

Columbia Gulf Transmission Company; Notice of Proposed Changes in FERC gas Tariff

April 2, 2002.

Take notice that on March 28, 2002, Columbia Gulf Transmission Company (Columbia Gulf) tendered for filing as part of its FERC Gas Tariff, Second Revised Volume No. 1, the following revised tariff sheets, bearing a proposed effective date of May 1, 2002:

Fourth Revised Sheet No. 146

First Revised Sheet No. 150

On May 2, 2001, Columbia Gulf's affiliate, Columbia Gas Transmission Corporation, (Columbia Gas) made a filing with the Commission initiating Docket No. CP01-260. In that filing, Columbia Gas requested a certificate of public convenience and necessity to construct and operate facilities needed to serve a new customer. On February 27, 2002, the Commission issued an order (Order) (Columbia Gas Transmission Corp., 98 FERC ¶ 61,206 (2002)) approving Columbia Gas' proposals. In the May 2, 2001 filing, Columbia Gas requested a waiver of the 20-year term limit for service agreements currently in its tariff. In the Order, the Commission questioned whether this current 20-year restriction in Columbia Gas' tariff was necessary and directed Columbia Gas to revise its tariff to eliminate this term restriction. The instant filing is being made by Columbia Gulf to incorporate similar changes to its tariff.

Columbia Gulf states that copies of its filing have been mailed to all firm customers, interruptible customers, and affected state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See 18 CFR 385.2001(a)(1)(iii) and the instructions on the Commission's web site under the “e-Filing” link.

Magalie R. Salas,
Secretary.

[FR Doc. 02-8413 Filed 4-5-02; 8:45 am]

BILLING CODE 6717-01-P